DEPARTMENT OF THE TREASURY

Alcohol and Tobacco Tax and Trade Bureau

27 CFR Part 9

[Docket No. TTB-2020-0007; T.D. TTB-172A; Ref: T.D. TTB-172 and Notice No. 192]

RIN 1513-AC55

Modification of the Boundaries of the Santa Lucia Highlands and Arroyo Seco Viticultural Areas; Correction

AGENCY: Alcohol and Tobacco Tax and Trade Bureau, Treasury.

ACTION: Final rule; Treasury decision; correction.

SUMMARY: The Alcohol and Tobacco Tax and Trade Bureau (TTB) published a final rule modifying the boundaries of the Santa Lucia Highlands viticultural area and the adjacent Arroyo Seco viticultural area in the Federal Register of August 25, 2021. That final rule contained an error in an amendatory instruction. This document corrects that error.

DATES: Effective September 24, 2021.

FOR FURTHER INFORMATION CONTACT: Karen A. Thornton, Regulations and Rulings Division, Alcohol and Tobacco Tax and Trade Bureau, 1310 G Street NW, Box 12, Washington, DC 20005; phone 202-453-1039, ext. 175.

SUPPLEMENTARY INFORMATION: TTB recently published a final rule modifying the boundaries of the established Arroyo Seco American viticultural area (AVA) and the adjacent, established Santa Lucia Highlands AVA in Monterey County, California. TTB published this final rule as T.D. TTB-172. After publication, TTB discovered that T.D. TTB-172 contained an error in one of the amendatory instructions. In amendatory instruction 2b, the phrase “Redesignating paragraphs (c)(14) through (21) as paragraphs (c)(17) through (24)” should have read, “Redesignating paragraphs (c)(14) through (22) as paragraphs (c)(17) through (25).”

Corrections

In the final rule document numbered FR Doc. 2021-18208 beginning on page 47377 in the Federal Register issue of Wednesday, August 25, 2021, make the following correction:

§ 9.59 [Corrected]

On page 47379, in the second column, in the amendatory instructions for § 9.59, amendatory instruction 2b is corrected to read, “Redesignating paragraphs (c)(14) through (22) as paragraphs (c)(17) through (25).”

Signed: September 16, 2021.
Mary G. Ryan,
Administrator.

[FR Doc. 2021-20437 Filed 9-22-21; 8:45 am]

BILLING CODE 4810-31-P